DEPARTMENT OF COMMERCE

International Trade Administration

[(A-538-802)(A-570-003)(C-535-001)]

Continuation of Antidumping Duty Orders and Countervailing Duty Order: Cotton Shop Towels From Bangladesh, the People's Republic of China, and Pakistan

AGENCY: Import Administration, International Trade Administration, Department of Commerce.

ACTION: Notice of continuation of antidumping duty orders and countervailing duty order: cotton shop towels from Bangladesh, the People's Republic of China, and Pakistan.

SUMMARY: On August 5, 1999, the Department of Commerce (“the Department”), pursuant to sections 751(c) and 752 of the Tariff Act of 1930, as amended (“the Act”), determined that revocation of the antidumping duty orders on cotton shop towels from Bangladesh and the People's Republic of China (“China”), and of the countervailing duty order on cotton shop towels from Pakistan, is likely to lead to continuation or recurrence of dumping or a countervailing subsidy (64 FR 42658, 42656, 42672, respectively). On February 3, 2000, the International Trade Commission (“the Commission”), pursuant to section 751(c) of the Act, determined that revocation of these antidumping and countervailing duty orders on cotton shop towels would be likely to lead to continuation or recurrence of material injury to an industry in the United States within a reasonably foreseeable time (65 FR 5369). Therefore, pursuant to 19 CFR 351.218(e)(4), the Department is publishing notice of the continuation of the antidumping duty orders on cotton shop towels from Bangladesh and China, and of the countervailing duty order on cotton shop towels from Pakistan.

Effective Date: February 17, 2000.

For Further Information Contact: Martha V. Douthit or Melissa G. Skinner, Office of Policy for Import Administratin, International Trade Administration, U.S. Department of Commerce, 14th Street and Constitution Ave., NW, Washington, D.C. 20230; telephone: (202) 482-5050 or (202) 482-1560, respectively.

SUPPLEMENTARY INFORMATION

Background

On January 4, 1999, the Department initiated, and the Commission instituted, sunset reviews (64 FR 364 and 64 FR 371, respectively) of the antidumping duty orders on cotton shop towels from Bangladesh and China, and of the countervailing duty order on cotton shop towels from Pakistan, pursuant to section 751(c) of the Act. As a result of its reviews, the Department found that revocation of the antidumping duty orders would likely lead to continuation or recurrence of dumping and notified the Commission of the magnitude of the margin likely to prevail were the orders to be revoked (see Final Results of Expedited Sunset Review: Cotton Shop Towels From Bangladesh, August 5, 1999 (64 FR 42658) and Final Results of Expedited Sunset Review: Cotton Shop Towels From the People’s Republic of China, August 5, 1999 (64 FR 42656)). Additionally, the Department determined that revocation of the countervailing duty order would likely lead to continuation or recurrence of a countervailing subsidy and notified the Commission of the net countervailable subsidy likely to prevail were the order revoked (see Final Results of Expedited Sunset Review: Cotton Shop Towels From Pakistan, August 5, 1999 (64 FR 42672)).

On February 3, 2000, the Commission determined, pursuant to section 751(c) of the Act, that revocation of the antidumping duty orders on cotton shop towels from Bangladesh, China, and of the countervailing duty order on cotton shop towels from Pakistan, would be likely to lead to continuation or recurrence of material injury to an industry in the United States within a reasonably foreseeable time (see Cotton Shop Towels From Bangladesh, China, and Pakistan, 65 FR 5369 (February 3, 2000) and USITC Pub. 3267, Investigation Nos. 701-TA-202 (Review) and 731-TA-103 and 514 (Review) (January 2000)).

Scope

Bangladesh—The merchandise subject to this antidumping duty order is cotton shop towels from Bangladesh. Shop towels are absorbent industrial wiping cloths made from a loosely woven fabric. The fabric may be either 100-percent cotton or a blend of materials. Shop towels are currently classifiable under item numbers 6307.10.2005 and 6307.10.2015 of the Harmonized Tariff Schedules of the United States (HTSUS). This review covers imports from all manufacturers and exporters of shop towels from Bangladesh.

China—The merchandise subject to this antidumping duty order is cotton shop towels from the People's Republic of China. Shop towels are absorbent industrial wiping cloths made from a loosely woven fabric. The fabric may be either 100-percent cotton or a blend of materials. Shop towels are currently classifiable under item numbers 6307.10.2005 and 6307.10.2015 of the Harmonized Tariff Schedules of the United States (HTSUS).

Pakistan—The subject merchandise is cotton shop towels from Pakistan. This merchandise is classifiable under item number 6307.10.20 of the Harmonized Tariff Schedule (HTS).

Although the HTSUS subheadings are provided for convenience and customs purposes, our written description of the scope of these proceedings remain dispositive.

Determination

As a result of the determinations by the Department and the Commission that revocation of these antidumping duty orders and countervailing duty order would be likely to lead to continuation or recurrence of dumping or a countervailable subsidy and material injury to an industry in the United States, pursuant to section 751(d)(2) of the Act, the Department hereby orders the continuation of the antidumping duty orders on cotton shop towels from Bangladesh and from China, and of the countervailing duty order on cotton shop towels from Pakistan. The Department will instruct the U.S. Customs Service to continue to collect antidumping and countervailing duty deposits at the rates in effect at the time of entry for all imports of subject merchandise. The effective date of continuation of these orders will be the date of publication in the Federal Register of this Notice of Continuation. Pursuant to section 751(c)(2) and 751 (c)(6) of the Act, the Department intends to initiate the next five-year review of these orders not later than January 2005.

Robert S. LaRussa,
Assistant Secretary for Import Administration.

[FR Doc. 00-3693 Filed 2-16-00; 8:45 am]

BILLING CODE 3510-DS-P